DEPARTMENT OF COMMERCE

Economic Development Administration

Notice of Petitions by Producing Firms for Determination of Eligibility To Apply for Trade Adjustment Assistance

AGENCY: Economic Development Administration (EDA).

ACTION: Notice and request for comments.

Petitions have been accepted for filing on the dates indicated from the firms listed below.

List of Petition Action by Trade Adjustment Assistance for Period March 26, 2005-April 27, 2005
Firm name | Address | Date petition accepted | Product
American Injection Molding Co., Inc | 121 Nixon Street, Cascade, IA 52033 | 04/06/2005 | Injection molded plastic components.
Growers Co-Operative Grape Co., Inc | 112 North Portage Street, Westfield, NY 14787 | 04/06/2005 | Concord grape juice concentrate.
Isabella Foods, Inc | 1133 Barranca Drive, El Paso, TX 79935 | 04/06/2005 | Frozen pastries.
Millwork Engineering and Crafts, Inc., dba The Craft Room and A Gift for the Home | 584 West Girard Road, Union City, MI 49094 | 04/06/2005 | Pictures, designs, photographs, and plaques for framing and mounting, and wooden frames for art work, pictures and photographs.
Misty Fjord Seafood, Inc | 125 Main Street, Ketchikan, AK 99901 | 04/06/2005 | Crab.
Mold Threads, Inc | 21 West End Avenue, Branford, CT 05405 | 04/06/2005 | Injection molds and injection molded parts.
Haldex Brake Corporation | 10930 North Pomona Avenue, Kansas City, MO 64153 | 04/12/2005 | Brake actuators.
Scan Pac Manufacturing, Inc | N 84 W 13510 Leon Road, Menomonee Falls, WI 53051 | 04/12/2005 | Non-asbestos friction material of rubber, zinc, fiberglass, and/or plastic molded into clutch components, and woven friction material of nylon cotton, and glass.
D8, Inc | 1293 East Freeze Road, Potlatch, ID 83855 | 04/13/2005 | Molds.
Hamel Manufacturing | 2815 River Road Drive, Waterloo, NE 68069 | 04/15/2005 | Mechanical appliances for projecting, dispersing or spraying liquids or powers.
Industrial Modification & Repair | 4067 Hardwick Street, Lakewood, CA 90714 | 04/15/2005 | Aircraft parts.
Norton Sound Economic Development Corporation dba Norton Sound Seafood Products | 420 L Street, Anchorage, AK 99501 | 04/27/2005 | Crabs.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Office of Strategic Initiatives, Room 7812, Economic Development Administration, U.S. Department of Commerce, Washington, DC 20230, no later than the close of business of the tenth calendar day following the publication of this notice. The Catalog of Federal Domestic Assistance official program number and title of the program under which these petitions are submitted is 11.313, Trade Adjustment Assistance.

Dated: April 27, 2005.
Anthony J. Meyer,
Senior Program Analyst, Office of Strategic Initiatives.

[FR Doc. 05-8755 Filed 5-2-05; 8:45 am]

BILLING CODE 3510-24-P